DEPARTMENT OF ENERGY

Federal Energy Regulatory Commission

[Docket No. EL15-45-000]

Notice of Complaint

Arkansas Electric Cooperative Corporation

Mississippi Delta Energy Agency

Clarksdale Public Utilities Commission

Public Service Commission of Yazoo City

Hoosier Energy Rural Electric Cooperative, Inc.

v.

ALLETE, Inc.

Ameren Illinois Company

Ameren Missouri

Ameren Transmission Company of Illinois

American Transmission Company LLC

Cleco Power LLC

Duke Energy Business Services, LLC

Entergy Arkansas, Inc.

Entergy Gulf States Louisiana, LLC

Entergy Louisiana, LLC

Entergy Mississippi, Inc.

Entergy New Orleans, Inc.

Entergy Texas, Inc.

Indianapolis Power & Light Company

International Transmission Company

ITC Midwest LLC

Michigan Electric Transmission Company, LLC

MidAmerican Energy Company

Montana-Dakota Utilities Co.

Northern Indiana Public Service Company

Northern States Power Company-Minnesota

Northern States Power Company-Wisconsin

Otter Tail Power Company

Southern Indiana Gas & Electric Company

Take notice that on February 12, 2015, pursuant to sections 206 and 306 of the Federal Power Act, 16 U.S.C. 824(e) and 825(e) and Rules 206 and 212 of the Federal Energy Regulatory Commission's (Commission) Rules of Practice and Procedure, 18 CFR 385.206 and 385.212, Arkansas Electric Cooperative Corporation (AECC), Mississippi Delta Energy Agency (MDEA), Clarksdale Public Utilities Commission (Clarksdale), Public Service Commission of Yazoo City, (Yazoo City), and Hoosier Energy Rural Electric Cooperative, Inc. (Hoosier) (collectively, Complainants or Joint Customer Complainants) filed a formal complaint against ALLETE, Inc. (for its operating division Minnesota Power, Inc. and its wholly-owned subsidiary Superior Water Light, and Power Company), Ameren Illinois Company, Ameren Missouri, Ameren Transmission Company of Illinois, American Transmission Company LLC (ATC), Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northern Indiana Public Service Company, Northern States Power Company-Minnesota, Northern States Power Company Wisconsin, Otter Tail Power Company, and Southern Indiana Gas & Electric Company (collectively, Respondents), alleging that the current 12.38% return on equity applicable to transmission-owning members of the Midcontinent Independent System Operator, Inc., and the 12.2% ROE applicable to ATC are excessive and should be reduced as of the date of the Complaint.

The Joint Customer Complainants certify that copies of the complaint were served on the contacts for the Respondents as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 4, 2015.

Dated: February 13, 2015.
Nathaniel J. Davis, Sr.,
Deputy Secretary.

[FR Doc. 2015-03645 Filed 2-23-15; 8:45 am]

BILLING CODE 6717-01-P